FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records, entitled BGFRS-1 “FRB—Recruiting and Placement Records,” to add the onboarding materials that prospective employees provide the Board before beginning employment at the Board and to clarify that the records also include ethics-related information such as potential conflicts of interest. The modified system of records, BGFRS-1, which will now be called “FRB—Recruiting, Placement, and Onboarding Records,” is a system of records that is used to identify, track, screen, and select individuals for positions at the Board and for onboarding prospective employees before they begin employment with the Board.

DATES: Comments must be received on or before June 3, 2019. This new system of records will become effective June 3, 2019, without further notice, unless comments dictate otherwise. The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-1 “FRB—Recruiting, Placement, and Onboarding Records,” by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments are available from the Board's website at http://www.federalreserve.gov/generalinfo/foia/ProposedRegs.cfm as submitted, unless modified for technical reasons or to remove personally identifiable information at the commenter's request. Accordingly, comments will not be edited to remove any identifying or contact information. Public comments may also be viewed electronically or in paper in Room 146, 1709 New York Avenue NW, Washington, DC 20006, between 9:00 a.m. and 5:00 p.m. on weekdays.

FOR FURTHER INFORMATION CONTACT: David B. Husband, Senior Attorney, (202) 530-6270, or david.b.husband@frb.gov; Alye S. Foster, Assistant General Counsel, (202) 452-5289, or alye.s.foster@frb.gov; Legal Division, Board of Governors of the Federal Reserve System, 20th Street and Constitution Avenue NW, Washington, DC 20551. Telecommunications Device for the Deaf (TDD) users may contact (202) 263-4869.

SUPPLEMENTARY INFORMATION: The Board's new onboarding process will involve the collection of information from prospective employees to appropriate Board staff as well as the provision of information from Board staff to the prospective employees. The onboarding process will occur in the period between acceptance of offer and the prospective employee's start date. The Board will also collect and store ethics pre-hire conflict of interest screening information. Accordingly, BGFRS-1 is amended to update the system name, the system location, the system manager information, the authority for maintenance of the system, the purpose of the system, the categories of individuals, the categories of records in the system, the record source, the policies and practices for the retrieval, retention, and disposal of records, and the administrative and technical safeguards. The Board is not adding any new routine uses or amending any existing routine uses.

The Board is also making technical changes to BGFRS-1 consistent with the template laid out in OMB Circular No. A-108. Accordingly, the Board has made technical corrections and non-substantive language revisions to the following categories: “Policies and Practices for Storage of Records,” “Policies and Practices for Retrieval of Records,” “Policies and Practices for Retention and Disposal of Records,” “Administrative, Technical and Physical Safeguards,” “Record Access Procedures,” “Contesting Record Procedures,” and “Notification Procedures.” The Board has also created the following new fields: “Security Classification” and “History.”

SYSTEM NAME AND NUMBER

BGFRS-1 “FRB—Recruiting, Placement, and Onboarding Records”

SECURITY CLASSIFICATION:

Unclassified.

SYSTEM LOCATION:

Records will be maintained at the Board's central offices located at: Board of Governors of the Federal Reserve System, 20th Street and Constitution Avenue NW, Washington, DC 20551. Copies of resumes, applications, supporting documentation, and offer information may also be stored by the hiring managers in their respective Board offices and electronic systems. Some of the records are stored by the Board's contractor, Oracle Corporation, located at 500 Oracle Parkway, Redwood Shores, CA 94065.

SYSTEM MANAGER(S):

The managers are located at the Board's central offices in Washington, DC. The system manager for records for all positions other than those involving the recruitment of economist or research assistant positions at the Board is Lewis Andrews, Sr. Manager, Human Resources Analytics, Systems and Operations, Management Division, (202) 452-3082, or lewis.e.andrews@frb.gov. The system manager for records involving the recruitment of economist or research assistant positions at the Board is Lil Shewmaker, Assistant Director, Division of Research and Statistics, (202) 452-3377, or lil.shewmaker@frb.gov.

AUTHORITY FOR MAINTENANCE OF THE SYSTEM:

Sections 10 and 11 of the Federal Reserve Act (12 U.S.C. 244 and 248(l)) and Executive Order 9397.

PURPOSE(S) OF THE SYSTEM:

These records are collected and maintained to assist the Board in recruiting and hiring individuals for Board employment and onboarding prospective employees. The records will also assist the Board in retaining qualified employees and allow the Board to periodically review its hiring practices.

CATEGORIES OF INDIVIDUALS COVERED BY THE SYSTEM:

Persons who seek employment with the Board and prospective Board employees.

CATEGORIES OF RECORDS IN THE SYSTEM:

Records in the system include resumes, applications, and supporting documentation submitted by persons seeking employment; information from job fairs; job referrals; notes from interviews; notes on references; onboarding information from prospective employees; offer letters; and other recruiting related documentation, including verification of education, previous government service and/or military status. The records also include information regarding access to and use of the electronic systems. Certain information is also retained to enable the Board's Office of Diversity and Inclusion to monitor and track the Board's recruiting and hiring performance. Ethics-related information including potential conflicts are retained for compliance with the Board's ethics program requirements.

RECORD SOURCE CATEGORIES:

Information is provided by the individual to whom the record pertains; the individual's references and former employers; Board staff such as recruiters, interviewers, or contractors; job referrals; and official transcripts and other documentation from schools identified by the individual.

ROUTINE USES OF RECORDS MAINTAINED IN THE SYSTEM, INCLUDING CATEGORIES OF USERS AND PURPOSES OF SUCH USES:

General routine uses A, B, C, D, E, F, G, H, I, and J apply to this system. These general routine uses are located at https://www.federalreserve.gov/files/SORN-page-general-routine-uses-of-board-systems-of-records.pdf and are published in the Federal Register at 83 FR 43872 at 43873-74 (August 28, 2018). In addition, records may also be used to disclose information to any source from which additional information is requested (to the extent necessary to identify the individual, inform the source of the purpose(s) of the request, and identify the type of information requested), when necessary to obtain information relevant to a Board decision to hire or retain an employee, issue a security clearance, conduct a security or suitability investigation of an individual, classify jobs, let a contract, or issue a license, grant, or other benefit.

POLICIES AND PRACTICES FOR STORAGE OF RECORDS:

Paper records in this system are stored in file folders with access limited to staff with a need to know. Electronic records are stored on a secure server with access limited to staff with a need to know.

POLICIES AND PRACTICES FOR RETRIEVAL OF RECORDS:

Paper and electronic records can be retrieved by name or other personal identifiers.

POLICIES AND PRACTICES FOR RETENTION AND DISPOSAL OF RECORDS:

The Board is presently re-evaluating the retention schedule for application records and until the existing retention period is confirmed as appropriate or a new retention period is set, the Board will maintain the records. The Board will maintain onboarding materials for prospective employees who do not enter on duty for one year, in accordance with GRS 2.1 item 142. Relevant application records for applicants who are hired are kept in the employee's official personnel file and maintained in accordance with the System of Records entitled BGFRS-4“FRB—General Personnel Records.” Ethics-related records for applicants who are hired may be maintained in accordance with the System of Records entitled BGFRS-41 “FRB—Ethics Program Records.” Onboarding records for hires who become employees of the Board are maintained in accordance with the respective Board system of records for the records including BGFRS-4 “FRB—General Personnel Records,” BGFRS-7 “FRB—Payroll and Leave Records,” BGFRS-24 “FRB—EEO General Files,” and BGFRS-34 “FRB—ESS Staff Identification Card File.”

ADMINISTRATIVE, TECHNICAL, AND PHYSICAL SAFEGUARDS:

Paper records are secured by lock and key and electronic files are stored on secure servers. The system has the ability to track individual user actions within the system. The audit and accountability controls are based on NIST and Board standards which, in turn, are based on applicable laws and regulations. The controls assist in detecting security violations and performance or other issues in the system. Access to the system is restricted to authorized users within the Board who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) Contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551.

You may also submit your Privacy Act request electronically through the Board's FOIA “Electronic Request Form” located here: https://www.federalreserve.gov/secure/forms/efoiaform.aspx.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) Provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

Certain portions of this system of records may be exempt from 5 U.S.C. 552a(c)(3), (d), (e)(1), (e)(4)(G), (H), and (I), and (f) of the Privacy Act pursuant to subsections 5 U.S.C. 552a(k)(2) and (k)(5).

HISTORY:

This SORN was previously published in the Federal Register at 81 FR 39923 (June 20, 2016) and 73 FR 24984 at 24987 (May 6, 2008). The SORN was also amended to incorporate two new routine uses required by OMB at 83 FR 43872 (August 28, 2018).

Board of Governors of the Federal Reserve System, April 29, 2019.
Ann Misback,
Secretary of the Board.

[FR Doc. 2019-08978 Filed 5-1-19; 8:45 am]

BILLING CODE P